NUCLEAR REGULATORY COMMISSION

10 CFR Chapter I

[NRC-2018-0132]

Unified Agenda of Federal Regulatory and Deregulatory Actions

AGENCY: Nuclear Regulatory Commission.

ACTION: Semiannual regulatory agenda.

SUMMARY: We are publishing our semiannual regulatory agenda (the Agenda) in accordance with Public Law 96-354, “The Regulatory Flexibility Act,” and Executive Order 12866, “Regulatory Planning and Review.” The Agenda is a compilation of all rulemaking activities on which we have recently completed action or have proposed or are considering action. We have completed 5 rulemaking activities since publication of our last Agenda on June 11, 2018. This issuance of our Agenda contains 29 active and 17 long-term rulemaking activities: 4 are Economically Significant; 10 represent Other Significant agency priorities; 29 are Substantive, Nonsignificant rulemaking activities; and 3 are Administrative rulemaking activities. In addition, 2 rulemaking activities impact small entities. This issuance also contains our annual regulatory plan, which contains information on some of our most important regulatory actions that we are considering issuing in proposed or final form during Fiscal Year 2018. Our regulatory plan was submitted to OMB in June 2018; updates have been reflected in the Agenda abstract for each rulemaking. We are requesting comment on the rulemaking activities as identified in this Agenda.

DATES: Submit comments on rulemaking activities as identified in this Agenda by December 17, 2018.

ADDRESSES: Submit comments on any rulemaking activity in the Agenda by the date and methods specified in any Federal Register notice on the rulemaking activity. Comments received on rulemaking activities for which the comment period has closed will be considered if it is practical to do so, but assurance of consideration cannot be given except as to comments received on or before the closure dates specified in the Federal Register notice. You may submit comments on this Agenda through the Federal Rulemaking website by going to http://www.regulations.gov and searching for Docket ID NRC-2018-0132. Address questions about NRC dockets to Carol Gallagher; telephone: 301-415-3463; email: Carol.Gallagher@nrc.gov. For technical questions on any rulemaking activity listed in the Agenda, contact the individual listed under the heading “Agency Contact” for that rulemaking activity.

For additional direction on obtaining information and submitting comments, see “Obtaining Information and Submitting Comments” in the SUPPLEMENTARY INFORMATION section of this document.

FOR FURTHER INFORMATION CONTACT: Cindy Bladey, Office of Nuclear Material Safety and Safeguards, U.S. Nuclear Regulatory Commission, Washington, DC 20555-0001, telephone: 301-415-3280; email: Cindy.Bladey@nrc.gov. Persons outside the Washington, DC, metropolitan area may call, toll-free: 1-800-368-5642. For further information on the substantive content of any rulemaking activity listed in the Agenda, contact the individual listed under the heading “Agency Contact” for that rulemaking activity.

SUPPLEMENTARY INFORMATION:

Obtaining Information and Submitting Comments

A. Obtaining Information

Please refer to Docket ID NRC-2018-0132 when contacting the NRC about the availability of information for this document. You may obtain publically-available information related to this document by any of the following methods:

• Reginfo.gov:

○ For completed rulemaking activities go to http://www.reginfo.gov/public/do/eAgendaHistory?show Stage=completed, select “fall 2018 The Regulatory Plan and the Unified Agenda of Federal Regulatory and Deregulatory Actions” from drop down menu, and select “Nuclear Regulatory Commission” from drop down menu.

○ For active rulemaking activities go to http://www.reginfo.gov/public/do/eAgendaMain and select “Nuclear Regulatory Commission” from drop down menu.

○ For long-term rulemaking activities go to http://www.reginfo.gov/public/do/eAgendaMain, select “Current Long Term Actions” link, and select “Nuclear Regulatory Commission” from drop down menu.

• Federal Rulemaking Website: Go to http://www.regulations.gov and search for Docket ID NRC-2018-0132.

• NRC's Public Website: Go to http://www.nrc.gov/reading-rm/doc-collections/rulemaking-ruleforum/unified-agenda.html and select fall 2018.

• NRC's Public Document Room: You may examine and purchase copies of public documents at the NRC's PDR, Room O1-F21, One White Flint North, 11555 Rockville Pike, Rockville, Maryland 20852.

B. Submitting Comments

Please include Docket ID NRC-2018-0132 in your comment submission.

The NRC cautions you not to include identifying or contact information that you do not want to be publicly disclosed in your comment submission. The NRC will post all comment submissions at http://www.regulations.gov as well as enter the comment submissions into the Agencywide Documents Access and Management System (ADAMS). The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The Agenda is a compilation of all rulemaking activities on which an agency has recently completed action or has proposed or is considering action. The Agenda reports rulemaking activities in three major categories: Completed, active, and long-term. Completed rulemaking activities are those that were completed since publication of an agency's last Agenda; active rulemaking activities are those that an agency currently plans to have an Advance Notice of Proposed Rulemaking, a Proposed Rule, or a Final Rule issued within the next 12 months; and long-term rulemaking activities are rulemaking activities under development but for which an agency does not expect to have a regulatory action within the 12 months after publication of the current edition of the Unified Agenda.

We assign a “Regulation Identifier Number” (RIN) to a rulemaking activity when our Commission initiates a rulemaking and approves a rulemaking plan, or when the NRC staff begins work on a Commission delegated rulemaking ¹ that does not require a rulemaking plan. The Office of Management and Budget uses this number to track all relevant documents throughout the entire “lifecycle” of a particular rulemaking activity. We report all rulemaking activities in the Agenda that have been assigned a RIN and meet the definition for a completed, an active, or a long-term rulemaking activity.

¹ For information on delegated rulemakings see ADAMS Accession No. ML16040A011.

The information contained in this Agenda is updated to reflect any action that has occurred on a rulemaking activity since publication of our last Agenda on June 11, 2018 (83 FR 27276). Specifically, the information in this Agenda has been updated through July 27, 2018. The NRC provides additional information on planned rulemaking and petition for rulemaking activities, including priority and schedule, on our website at https://www.nrc.gov/about-nrc/regulatory/rulemaking/rules-petitions.html#cprlist.

The date for the next scheduled action under the heading “Timetable” is the date the next regulatory action for the rulemaking activity is scheduled to be published in the Federal Register. The date is considered tentative and is not binding on the Commission or its staff. The Agenda is intended to provide the public early notice and opportunity to participate in our rulemaking process. However, we may consider or act on any rulemaking activity even though it is not included in the Agenda.

Section 610 Periodic Reviews Under the Regulatory Flexibility Act

Section 610 of the Regulatory Flexibility Act (RFA) requires agencies to conduct a review within 10 years of promulgation of those regulations that have or will have a significant economic impact on a substantial number of small entities. We undertake these reviews to decide whether the rules should be unchanged, amended, or withdrawn. At this time, we do not have any rules that have a significant economic impact on a substantial number of small entities; therefore, we have not included any RFA Section 610 periodic reviews in this edition of the Agenda. A complete listing of our regulations that impact small entities and related Small Entity Compliance Guides are available from the NRC's website at http://www.nrc.gov/about-nrc/regulatory/rulemaking/flexibility-act/small-entities.html.

Public Comments Received on NRC Unified Agenda

The comment period on the NRC's last Agenda (published on June 11, 2018 (83 FR 27276) closed on July 11, 2018. We did not receive any written comments on our spring 2018 Agenda.

Dated at Rockville, Maryland, this 27th day of July 2018.
For the Nuclear Regulatory Commission.
Cindy Bladey,
Chief, Regulatory Analysis and Rulemaking Support Branch, Division of Rulemaking, Office of Nuclear Material Safety and Safeguards.

Nuclear Regulatory Commission—Proposed Rule Stage
Sequence No. | Title | Regulation Identifier No.
509 | Revision of Fee Schedules: Fee Recovery for FY 2019 [NRC-2017-0032] (Reg Plan Seq No. 180) | 3150-AJ99
References in boldface appear in The Regulatory Plan in part II of this issue of the Federal Register.

Nuclear Regulatory Commission—Long-Term Actions
Sequence No. | Title | Regulation Identifier No.
510 | Revision of Fee Schedules: Fee Recovery for FY 2020 [NRC-2017-0228] | 3150-AK10

Nuclear Regulatory Commission—Completed Actions
Sequence No. | Title | Regulation Identifier No.
511 | Revision of Fee Schedules: Fee Recovery for FY 2018 [NRC-2017-0026] | 3150-AJ95

NUCLEAR REGULATORY COMMISSION (NRC)

Proposed Rule Stage

509. Revision of Fee Schedules: Fee Recovery for FY 2019 [NRC-2017-0032]

Regulatory Plan: This entry is Seq. No. 180 in part II of this issue of the Federal Register.

RIN: 3150-AJ99

NUCLEAR REGULATORY COMMISSION (NRC)

Long-Term Actions

510. Revision of Fee Schedules: Fee Recovery for FY 2020 [NRC-2017-0228]

E.O. 13771 Designation: Independent agency.

Legal Authority: 31 U.S.C. 483; 42 U.S.C. 2201; 42 U.S.C. 2214; 42 U.S.C. 5841

Abstract: This rulemaking would amend the NRC's regulations for fee schedules. The NRC conducts this rulemaking annually to recover approximately 90 percent of its budget authority in a given fiscal year to implement the Omnibus Budget Reconciliation Act of 1990, as amended. This rulemaking would affect the fee schedules for licensing, inspection, and annual fees charged to the NRC's applicants and licensees.

Timetable:

Action | Date | FR Cite
NPRM | 01/00/20
Final Rule | 05/00/20

Regulatory Flexibility Analysis Required: Yes.

Agency Contact: Michele D. Kaplan, Nuclear Regulatory Commission, Office of the Chief Financial Officer, Washington, DC 20555-0001, Phone: 301 415-5256, Email: michele.kaplan@nrc.gov.

RIN: 3150-AK10

NUCLEAR REGULATORY COMMISSION (NRC)

Completed Actions

511. Revision of Fee Schedules: Fee Recovery for FY 2018 [NRC-2017-0026]

E.O. 13771 Designation: Independent agency.

Legal Authority: 31 U.S.C. 483; 42 U.S.C. 2201; 42 U.S.C. 2214; 42 U.S.C. 5841

Abstract: This proposed rule would implement the Omnibus Budget Reconciliation Act of 1990 (OBRA-90), as amended, which requires the NRC to recover approximately 90 percent of its budget authority in a given fiscal year, less the amounts appropriated from the Waste Incidental to Reprocessing, generic homeland security activities, and Inspector General services for the Defense Nuclear Facilities Safety Board, through fees assessed to licensees. This rulemaking would amend the Commission's fee schedules for licensing, inspection, and annual fees charged to its applicants and licensees. The licensing and inspection fees are established under 10 CFR part 170 and recover the NRC's cost of providing services to identifiable applicants and licensees. Examples of services provided by the NRC for which 10 CFR part 170 fees are assessed include license application reviews, license renewals, license amendment reviews, and inspections. The annual fees established under 10 CFR part 171 recover budgeted costs for generic (e.g., research and rulemaking) and other regulatory activities not recovered under 10 CFR part 170 fees.

Completed:

Action | Date | FR Cite
Final Rule | 06/25/18 | 83 FR 29622
Final Rule Effective | 08/24/18

Regulatory Flexibility Analysis Required: Yes.

Agency Contact: Michele D. Kaplan, Phone: 301 415-5256, Email: michele.kaplan@nrc.gov.

RIN: 3150-AJ95

[FR Doc. 2018-23931 Filed 11-15-18; 8:45 am]

BILLING CODE 7590-01-P